SMALL BUSINESS ADMINISTRATION

[Disaster Declaration # 11256 and # 11257]

Arkansas Disaster Number AR-00020

AGENCY: U.S. Small Business Administration.

ACTION: Amendment 2.

SUMMARY: This is an amendment of the Presidential declaration of a major disaster for the State of Arkansas (FEMA-1758-DR), dated 05/20/2008.

Incident: Severe Storms, Flooding, and Tornadoes.

Incident Period: 05/02/2008 and continuing through 05/12/2008.

DATES: Effective Date: 05/12/2008.

Physical Loan Application Deadline Date: 07/21/2008.

EIDL Loan Application Deadline Date: 02/20/2009.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Arkansas, dated 05/20/2008 is hereby amended to establish the incident period for this disaster as beginning 05/02/2008 and continuing through 05/12/2008.

All other information in the original declaration remains unchanged.

(Catalog of Federal Domestic Assistance Numbers 59002 and 59008)

James E. Rivera,
Acting Associate Administrator for Disaster Assistance.

[FR Doc. E8-12871 Filed 6-6-08; 8:45 am]

BILLING CODE 8025-01-P